OCCUPATIONAL SAFETY AND HEALTH REVIEW COMMISSION

29 CFR Part 2200

Rules of Procedure

AGENCY: Occupational Safety and Health Review Commission.

ACTION: Final Rule; Extension of Expiration Date.

SUMMARY: On February 19, 1999 the Occupational Safety and Health Review Commission issued a final rule amending its rules of procedure to add a new Subpart H consisting of § 2200.120 to 29 CFR. 64 FR 8243. In that section the Commission established a mandatory settlement process known as the Settlement Part as a pilot program for a one-year trial period.

In order to evaluate the Settlement Part, the Commission has concluded that it is necessary to continue the pilot program beyond the original one-year trial period. The Commission will continue to evaluate the results in order to decide whether it should establish the Settlement Part procedure on a permanent basis and whether any modifications should be made. Accordingly, the period during which Subpart H consisting of § 2200.120 is effective is extended to and including September 30, 2000.

EFFECTIVE DATE: As of February 15, 2000, the expiration date for Subpart H consisting of § 2200.120 added in the Federal Register of February 19, 1999 (64 FR 8246) is extended to and including September 30, 2000. After September 30, 2000, Subpart H consisting of § 2200.120 will no longer be in effect unless extended by the Commission by publication in the Federal Register.

FOR FURTHER INFORMATION CONTACT: Earl R. Ohman, Jr., General Counsel, One Lafayette Center, 1120 20th St., NW 9th Floor, Washington, DC 20036-3419, phone 202-606-5410.

Dated: February 10, 2000.
Thomasina V. Rogers,
Chairman.
Gary L. Visscher,
Commissioner.
Stuart E. Weisberg,
Commissioner.

[FR Doc. 00-3559 Filed 2-14-00; 8:45 am]

BILLING CODE 7600-01-M